NATIONAL ARCHIVES AND RECORDS ADMINISTRATION

[NARA-13-0031]

Office of Presidential Libraries; Proposed Disposal of George H.W. Bush and Clinton Administration Electronic Backup Tapes

AGENCY: National Archives and Records Administration (NARA).

ACTION: Presidential Records Act Notice of Proposed Disposal of George H.W. Bush and Clinton Administration Disaster Recovery Backup Tapes. The Electronic Mail Records on These Tapes Have Been Separately Restored and Permanently Preserved at NARA; Request for Public Comment.

SUMMARY: The National Archives and Records Administration (NARA) has identified a collection of disaster recovery backup tapes from the George H.W. Bush and Clinton Administrations, as appropriate for disposal under the provisions of 44 U.S.C. 2203(f)(3). This notice describes our reasons for determining that further retention of these disaster recovery backup tapes is not warranted, given that the Presidential and Federal electronic mail with attachments, pager and calendar records residing on these backup tapes were previously restored, and that NARA will permanently retain these Presidential and Federal records on a different set of electronic media. Because the backup tapes proposed for disposal were made for disaster recovery purposes, NARA is following a procedure similar to that in GRS 24 for Federal record backup tapes.

This notice does not constitute a final agency action, as described in 44 U.S.C. 2203(f)(3), and no Presidential records will be disposed of following this notice. NARA will publish a second notice only after it has reviewed any comments received during this 45-day notice period. The second, 60-day notice will constitute a final agency action, in the event that NARA proceeds with disposal.

DATES: Comments are due by August 12, 2013.

ADDRESSES: Comments regarding the proposed disposal of these Presidential records must be sent in writing to Susan Donius, National Archives and Records Administration, Suite 2200, 8601 Adelphi Road, College Park, Maryland 20740-6001; or by fax to 301-837-3199; or by email to beth.fidler@nara.gov.

FOR FURTHER INFORMATION CONTACT: Susan Donius at 301-837-3250.

SUPPLEMENTARY INFORMATION: NARA proposes the disposal of 22,907 disaster recovery backup tapes created during the George H.W. Bush and Clinton Administrations. The backup tapes, consisting of what are known as “3480 cartridges,” were originally created from November 6, 1992 through July 15, 1994 by staff in the Executive Office of the President (EOP) during the George H.W. Bush and Clinton Administrations, with duplicative preservation copy sets created subsequently. The backup tapes covered by this notice were originally preserved under Court orders entered in the case of Armstrong v. Executive Office of the President, Civ. No. 89-0142 (D.D.C.). As set out below, email with attachments, calendars, pager notes, and certain other “email enabled” applications residing on the backup tapes, subsequently were restored to other electronic media as part of a Tape Restoration Project carried out in 1996 (“1996 Tape Restoration Project”) by staff in EOP's Office of Administration. NARA will continue to retain these restored Presidential and Federal records in an electronic format as part of the permanent record collections of the George H.W. Bush and Clinton Administrations.

During the George H.W. Bush and Clinton Administrations, staff in EOP's Office of Administration maintained what was known as the “VAX All-in-1” system for email communications. The email system was operated on behalf of numerous components of the EOP, including the Office of the President, the Office of the Vice President, the Office of Management and Budget, the Office of National Drug Control Policy, the Office of Science and Technology Policy, and the Council of Environmental Quality, One or more other offices also had users with email accounts on the system (e.g., staff in the National Security Council could send unclassified email communications to individuals on the All-in-1 system).

The software configuration for the VAX Cluster consisted of two main elements: The VAX Operating System, and the Office of Administration System for Information Services (OASIS) All-in-1 system (also known as the “All-in-1 software suite” or “software package”), a proprietary product made by the Digital Equipment Corporation (DEC) and further customized by OA staff. The DEC All-in-1 commercial “off the shelf” software package allowed for the creation of email and calendars. In addition to these standard features, EOP staff developed additional customized applications for All-in-1 users.

The tape restoration project carried out by EOP staff consisted of the recovery of email messages and calendars residing on the backups, as well as the recovery of the following additional “email enabled” and other applications” contained within the All-in-1 software suite: (a) Directory Change Requests (changes to profiles in the EOP on-line phone directory); (b) WAVES (Workers and Visitor Entry System) requests; (c) Suggestion Box (routing suggestions from staff to EOP Management); (d) Phone Messages (advising users of telephone calls received); and (e) Pager requests (routing electronic messages to pager devices). As stated above, NARA will retain these records on a permanent basis.

Backup tapes made for emergency purposes are not record keeping media; rather, their sole purpose is to be available for restoration in the event that electronic records are corrupted or destroyed. Given that these backup tapes have already served that purpose and NARA has no need to conduct any further restoration from them, they no longer need to be preserved. In the normal course, the disaster recovery backup tapes at issue in this notice would have been subject to recycling or otherwise disposed of under then-existing authorities, including under General Records Schedule 20, Item 8 (1982), and are otherwise equivalent to backup tapes currently disposable under General Records Schedule 24, Item 4 (covering “system backup tapes” created in Information Technology Operations).

As of November 1995, subsequent disaster recovery backup tapes created for the same VAX/All-in-1 System operated by the Office of Administration of EOP were specifically designated as temporary records with a 90 day maximum retention period for weekly backups. See records schedule approved by Archivist John Carlin, dated November 1995, re “OASIS All-in-1 Applications and other VAX Cluster Applications, Job. No. N1-429-95-2, Item 8), These authorities are consistent with the widely accepted principle that records appropriate for preservation should be maintained in recordkeeping systems rather than on disaster recovery backups. Cf. 36 CFR 1236.20(c) (“System and file backup processes and media do not provide the appropriate recordkeeping functionalities and must not be used as the agency electronic recordkeeping system.”).

The sub-collections of backup tapes that have been retained and are now covered by this disposition notice consist of: (a) 2,835 “3480 cartridges” created by EOP staff between November 6, 1992 through January 20, 1993, during the George H.W. Bush Administration; (b) a preservation copy set of 2,835 media created by NARA staff in 1993 on receipt of the originals; (c) a second generation preservation copy set of 2,835 media created by NARA staff in 2003; (d) 2,156 “daily” and 6,514 “weekly” backups created by EOP staff between January 20, 1993 and July 15, 1994 during the Clinton Administration; and (e) a preservation copy set of 5,732 backups of Clinton daily and weekly backups created by EOP staff in 1996 and used for the 1996 Tape Restoration Project. A Stipulation and Order entered in the Armstrong case on January 27, 1994, allows for disposition of the preserved backups provided that NARA issues this form of public notice in the Federal Register.

Additional information. The above-referenced November 1995 records schedule for records created or received on the VAX/All-in-1 system covered additional software applications that generated user-created data during some or all of the time period between November 1992 and July 1994, but that were not made subject to the Tape Restoration Project as either Presidential or Federal records. For the reasons stated above, NARA does not believe that additional recovery actions are warranted for the purpose of obtaining additional user-created data on the preserved backup tapes.

The additional temporary record and non-record applications on the VAX/All-in-1 system consisted of: (a) Indices (lists maintained on the system of the contents of electronic folders of OASIS All-in-1 users); (b) Distribution Lists (mailing lists created by users when sending email messages); (c) EOP Directory (names of individuals, with room and telephone numbers); (d) User Directory (provided users with short-cut to enter names of intended recipients); (e) Bulletin Board (notification of scheduled events, such as blood drives, classroom training and insurance open seasons); (f) User Set-up (passwords, locations, work hours, calendar and date formats, and log-in/log-out data); (g) System Distribution Lists (mailing lists created by system managers); (h) DB/2 Services Request Form (database administration requests); (i) Security Files (system generated data to monitor requests to access); (j) Supply Order Form; (k) Training Schedules; (l) Weekly Usage Reports; (m) Calculator; (n) Information Management (news and weather displays); (o) Lock Keyboard; (p) Personal Rolodex; (q) Training Routines and HELP files; (r) World Wide Time; (s) Personnel Vacancy Search Request (government wide vacancies); (t) Presidential Remarks On-Line (Library application providing access to public statements and speeches).

As stated, copies of Presidential and Federal email with attachments, calendars, pager notes, and related records recovered as part of the 1996 Tape Restoration Project are being retained by NARA in separate electronic databases covering the George H.W. Bush and Clinton Administrations, respectively. However, NARA has no further need or use for the remaining original disaster recovery backup tapes.

Dated: June 25, 2013.
Susan K. Donius,
Director, Office of Presidential Libraries.

[FR Doc. 2013-15564 Filed 6-27-13; 8:45 am]

BILLING CODE 7515-01-P